DEPARTMENT OF ENERGY

Environmental Management Site-Specific Advisory Board, Northern New Mexico

AGENCY: Department of Energy.

ACTION: Notice of Open Meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, May 11, 2011, 9 a.m.-5 p.m.;

Thursday, May 12, 2011, 9 a.m.-5 p.m.

ADDRESSES: Santa Claran Hotel, 464 North Riverside Drive, Espanola, New Mexico 87532.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION:

Purpose of the Board: The purpose of the Board is to make recommendations to DOE-EM and site management in the areas of environmental restoration, waste management, and related activities.

Tentative Agenda

Wednesday, May 11, 2011

9 a.m. Welcome and Introductions

9:15 a.m. Welcome by Governor Walter Dasheno, Santa Clara Pueblo

9:30 a.m. Los Alamos National Laboratory (LANL) Site Manager's Perspective

• “50 Year Plan for Stewardship”

• “State of the Laboratory”

10:45 a.m. Break

11 a.m. New Mexico Environment Department (NMED), Secretary F. David Martin

• Status of Consent Order

• NMED Issues of Concern

• RCRA Permit Renewal

• Top Three Issues

12 p.m. Lunch Break

1 p.m. Environmental Protection Agency (EPA), Rich Mayer

• Federal Facilities Compliance Act

• National Pollutant Discharge Elimination System Permit

• Waste Isolation Pilot Plant (WIPP)

• Other EPA Regulatory Activities at LANL

2 p.m. NNMCAB Strategic Planning

• Discuss May 24th NNMCAB Sponsored Forum/Assignments

• Discuss Future Presentation Requests and Topics for Recommendations

• Open Forum for Members

3:15 p.m. Break

3:30 p.m. Follow-up and Implementation of NNMCAB Recommendations Report from DOE and LANL, Fred de Sousa

4:30 p.m. Wrap-up Discussion

5 p.m. Adjourn

Thursday, May 12, 2011

9 a.m. Call to Order by Co-Deputy Designated Federal Officers (DDFOs), Ed Worth and Lee Bishop

Establishment of a Quorum: Roll Call and Excused Absences, Lorelei Novak

Welcome and Introductions, Ralph Phelps

Welcome to the City of Espanola, Mayor Alice Lucero

Approval of Agenda and March 30, 2011 Meeting Minutes

9:30 a.m. Public Comment Period

10 a.m. Old Business

• Written Reports

• Report on Environmental Justice Conference

• Other Items

10:30 a.m. Break

10:45 a.m. New Business

11 a.m. Matters from Co-DDFOs

11:15 a.m. Presentation on WIPP

12:15 p.m. Lunch Break

1:30 p.m. Presentation on the Basics of Radiation, Dr. Mike McNaughton

3 p.m. Break

3:15 p.m. Presentation on the Basics of Hazard, Risk and Safety at Los Alamos National Laboratory

4:30 p.m. Public Comment Period

4:45 p.m. Wrap up and Comments

5 p.m. Adjourn

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.org/.

Issued at Washington, DC on April 14, 2011.
LaTanya R. Butler,
Acting Deputy Committee Management Officer.

[FR Doc. 2011-9563 Filed 4-19-11; 8:45 am]

BILLING CODE 6450-01-P